Title 3—

The President

Executive Order 13253 of January 16, 2002

Amendment to Executive Order 13223, Ordering the Ready Reserve of the Armed Forces to Active Duty and Delegating Certain Authorities to the Secretary of Defense and the

Secretary of Transportation

By the authority vested in me as President by the Constitution and the laws of the United States of America, including the National Emergencies Act (50 U.S.C. 1601 et seq.) and section 301 of title 3, United States Code, and in furtherance of Proclamation 7463 of September 14, 2001, Declaration of National Emergency by Reason of Certain Terrorist Attacks, which declared a national emergency by reason of the terrorist attacks on the World Trade Center, New York, New York, and the Pentagon, and the continuing and immediate threat of further attacks on the United States, and in order to provide the Secretary of Transportation, with respect to the Coast Guard, with the authority to manage personnel requirements in a manner consistent with the authorization provided to the Secretary of Defense in Executive Order 13223 of September 14, 2001, it is hereby ordered as follows:

Section 1. Section 5 of Executive Order 13223 is amended by adding at the end: “The Secretary of Transportation is further designated and empowered, without the approval, ratification or any other action by the President, to exercise the authority vested in the President by sections 123 and 123a of title 10, United States Code, and sections 149 (detail members to assist foreign governments), 275(a) (suspension of provisions on selection, promotion, or involuntary separation of officers), and 722 (administration of reserve forces) of title 14, United States Code, as invoked by section 2 of Executive Order 13223.”

Sec. 2. Section 7 of Executive Order 13223 is deleted and revised to read as follows: “Based upon my determination under 10 U.S.C. 2201(c) that it is necessary to increase (subject to limits imposed by law) the number of members of the armed forces on active duty for the Department of Defense beyond the number for which funds are provided in the appropriation Act for the Department of Defense, which, by virtue of 14 U.S.C. 652, applies to the Department of Transportation with respect to the Coast Guard, the Secretary of Defense and the Secretary of Transportation may provide for the cost of such additional members under their respective jurisdictions as an excepted expense under section 11(a) of title 41, United States Code.”

B

THE WHITE HOUSE,

January 16, 2002.

[FR Doc. 02-1594

Filed 1-17-02; 10:43 am]

Billing code 3195-01-P